FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 11, 2000.

A. Federal Reserve Bank of Minneapolis (JoAnne F. Lewellen, Assistant Vice President), 90 Hennepin Avenue, Minneapolis, Minnesota 55480-0291:

1. Amendment and Restatement of the Alvin John Huss, Jr., Revocable Trust Agreement dated August 23, 2000, St. Paul, Minnesota; to acquire voting shares of Charter 95 Corporation, St. Paul, Minnesota; and thereby indirectly acquire voting shares of First National Bank of Hudson, Woodbury, Minnesota.

B. Federal Reserve Bank of Kansas City (D. Michael Manies, Assistant Vice President), 925 Grand Avenue, Kansas City, Missouri 64198-0001:

1. Padgett Enterprises, L.P., Greenleaf, Kansas; Gary W. Padgett and Sue S. Padgett, Greenleaf, Kansas, as Trustees of the Gary W. Padgett Trust No. 1; Sue S. Padgett, Gary W. Padgett, Greenleaf, Kansas, and C. Clyde Jones, Manhatton, Kansas, as Trustees of the Sue S. Padgett Share of the Florence Summerville Trust No. 1; and Gary W. Padgett, Sue S. Padgett, and C. Clyde Jones as Trustees of the Gary W. Padgett Share of the Beryl Padgett Trust No. 1, Greenleaf, Kansas; to acquire voting shares of Padgett Agency, Inc., Greenleaf, Kansas, and thereby indirectly acquire voting shares of The Citizens National Bank, Greenleaf, Kansas.

2. Vernon R. Pfaff and Barbara Ann Pfaff, Fairbury, Nebraska; to acquire voting shares of Antelope Bancshares, Inc., Elgin, Nebraska, and thereby indirectly acquire voting shares of Bank of Elgin, Elgin, Nebraska.

Board of Governors of the Federal Reserve System, November 21, 2000.
Robert deV. Frierson,
Associate Secretary of the Board.

[FR Doc. 00-30211 Filed 11-27-00; 8:45 am]

BILLING CODE 6210-01-P